DEPARTMENT OF JUSTICE

28 CFR Parts 0 and 44

[CRT Docket No. 130]

RIN 1190-AA71

Revision of Standards and Procedures for the Enforcement of Section 274B of the Immigration and Nationality Act

AGENCY: Department of Justice.

ACTION: Notice of proposed rulemaking; extension of comment period.

SUMMARY: On August 15, 2016, the Department of Justice (Department) published a Notice of Proposed Rulemaking (NPRM) in the Federal Register proposing to revise regulations implementing section 274B of the Immigration and Nationality Act, concerning unfair immigration-related employment practices. The comment period for the NPRM is scheduled to close on September 14, 2016. The Department is extending the comment period by 30 days until October 14, 2016, in order to provide additional time for the public to prepare comments.

DATES: The comment period for the NPRM published on August 15, 2016 (81 FR 53965), is extended. All comments must be received by October 14, 2016. Comments received by mail will be considered timely if they are postmarked on or before that date. The electronic Federal Docket Management System (FDMS) will accept comments until midnight Eastern Time at the end of the day.

ADDRESSES: You may submit written comments, identified by Docket No. CRT 130, by ONE of the following methods:

Federal eRulemaking Portal: http://www.regulations.gov. Follow the instructions for submitting comments.

Mail: 950 Pennsylvania Avenue NW.—NYA, Suite 9000, Washington, DC 20530.

Hand Delivery/Courier: 1425 New York Avenue, Suite 9000, Washington, DC 20005.

Instructions: All submissions received must include the agency name and docket number or Regulatory Information Number (RIN) for this rulemaking. For additional details on submitting comments, see the “Public Participation” heading of the SUPPLEMENTARY INFORMATION section of this document.

FOR FURTHER INFORMATION CONTACT: Alberto Ruisanchez, Deputy Special Counsel, Office of Special Counsel for Immigration-Related Unfair Employment Practices, Civil Rights Division, 950 Pennsylvania Avenue NW., Washington, DC 20530, (202) 616-5594 (voice) or (800) 237-2515 (TTY); or Office of Special Counsel for Immigration-Related Unfair Employment Practices, Civil Rights Division, 950 Pennsylvania Avenue NW., Washington, DC 20530, (202) 353-9338 (voice) or 1-800 237-2515 (TTY).

SUPPLEMENTARY INFORMATION: The Department of Justice (Department) published a Notice of Proposed Rulemaking (NPRM) in the Federal Register on August 15, 2016, proposing to revise its regulations implementing section 274B of the Immigration and Nationality Act (INA), concerning unfair immigration-related employment practices. 81 FR 53965(August 15, 2016). The NPRM proposed to conform the Department's regulations to the statutory text as amended, simplify and add definitions of statutory terms, update and clarify the procedures for filing and processing charges of discrimination, ensure effective investigations of unfair immigration-related employment practices, reflect developments in nondiscrimination jurisprudence, reflect changes in existing practices (e.g., electronic filing of charges), reflect the new name of the office within the Department charged with enforcing this statute, and replace outdated references. The Department received several comments requesting that the 30-day public comment period be extended, including a request to extend the comment period by an additional 60 days. The requests indicated that more time was needed to provide meaningful, comprehensive responses to the NPRM.

Rather than granting the requested 60-day extension, the Department has decided to grant a 30-day extension of the comment period. Accordingly, the comment period will now close on October 14, 2016. The Department believes that this additional 30 days will provide the public with a sufficient opportunity to provide comments on this NPRM. Given the importance of ensuring that its regulations conform to section 274B of the INA, the Department seeks to continue moving this rulemaking forward. Comments on the NPRM should be provided by October 14, 2016, via the methods described above.

Dated: September 7, 2016.
Vanita Gupta,
Principal Deputy Assistant Attorney General.

[FR Doc. 2016-21937 Filed 9-13-16; 8:45 am]

BILLING CODE 4410-13-P